ENVIRONMENTAL PROTECTION AGENCY

[ER-FRL-8583-9]

Environmental Impacts Statements; Notice of Availability

Responsible Agency: Office of Federal Activities, General Information (202) 564-1399 or http://www.epa.gov/compliance/nepa/.

Weekly receipt of Environmental Impact Statements.

Filed 07/14/2008 Through 07/18/2008.

Pursuant to 40 CFR 1506.9.

EIS No. 20080279, Draft EIS, FRC, PA, Holtwood Hydroelectric Project (Docket No. P-1881-050) Application for an Amendment License to Increase the Installed Capacity, Susquehanna River, Lancaster and York Counties, PA, Comment Period Ends: 09/08/2008, Contact: Patricia Schaub 1-866-208-3372.

EIS No. 20080280, Final EIS, AFS, WY, Winter Elk Management Programs, Long-Term Special Use Authorization for Wyoming Game and Fish Commission to use National Forest System Land within the Bridger-Teton National Forest at Alkali Creek, Dog Creek, Fall Creek, Fish Creek, Muddy Creek, Patrol Cabin, and Upper Green River, Jackson and Sublette, WY, Wait Period Ends: 08/25/2008, Contact: Greg Clark 307-276-3375.

EIS No. 20080281, Draft EIS, NRC, 00, Generic—In-Situ Leach Uranium Milling Facilities (NUREG-1910), Construction, Operation, Aquifer Restoration and Decommissioning, Potentially Location in Portions of WY, NE, SD and NM, Comment Period Ends: 09/26/2008, Contact: James Park 301-415-6935.

EIS No. 20080282, Draft EIS, UPS, CA, Aliso Viejo Incoming Mail Facility, Proposed Construction and Operation of a Mail Processing Facility on a 25-Acre Parcel, Aliso Viejo, Orange County, CA, Comment Period Ends: 09/08/2008, Contact: Emmy Andrews 650-615-7200.

EIS No. 20080283, Draft Supplement, AFS, MN, Glacier Project, Updated Information to Develop and Analyze a Fourth Alternative, To Maintain and Promote Native Vegetation, Communities that are Diverse, Productive, Healthy, Implementation, Superior National Forest, Kawishiwi Ranger District, St. Louis and Lake Counties, MN, Comment Period Ends: 09/08/2008, Contact: Susan Duffy 218-365-3097.

EIS No. 20080284, Final Supplement, USA, 00, Programmatic—Army Growth and Force Structure Realignment, Evaluation of Alternatives for Supporting the Growth, Realignment, and Transformation of the Army to Support Operations in the Pacific Theater, Implementation, Continental United States and Pacific Region of Alaska and Hawaii, Wait Period Ends: 08/25/2008, Contact: Mike Ackerman 410-436-2522.

Amended Notices

EIS No. 20080217, Second Draft Supplement, COE, CA, Pacific Los Angeles Marine Terminal Crude Oil Marine Terminal, Construction and Operation of a New Marine Terminal from Pier 400, Berth 408 Project, U.S. Army COE Section 10 and 404 Permits, Port of Los Angeles, Los Angeles County, CA, Comment Period Ends: 08/13/2008, Contact: Dr. Spencer D. MacNeil 805-585-2152. Revision of FR Notice Published 06/06/2008: Extending Comment from 07/29/2008 to 08/13/2008.

EIS No. 20080262, Draft EIS, SFW, NV, Desert National Wildlife Refuge Complex, Ash Meadows, Desert, Moapa Valley and Pahranagat National Wildlife Refuges, Comprehensive Conservation Plan, Clark, Lincoln and Nye Counties, NV, Comment Period Ends: 09/09/2008, Contact: Cynthia Martinez 702-515-5450. Revision to FR Notice Published: Correction Comment Period from 08/25/2008 to 09/09/2008.

Dated: July 22, 2008.
Ken Mittelholtz,
Environmental Protection Specialist, Office of Federal Activities.

[FR Doc. E8-17097 Filed 7-24-08; 8:45 am]

BILLING CODE 6560-50-P